NATIONAL SCIENCE FOUNDATION

Special Emphasis Panel in Elementary, Secondary and Informal Education; Notice of Meeting

In accordance with the Federal Advisory Committee Act (Pub. L. 92-463, as amended), the National Science Foundation announces the following meeting.

Name and Committee Code: Special Emphasis Panel in Elementary, Secondary and Informal Education (#59).

Date and Time: Wednesday, March 22, 2000, 7:00 p.m. to 10:00 p.m., Thursday, March 23, 2000, 8:00 a.m. to 5:00 p.m.

Place: Arlington Hilton and Towers, 950 North Stafford Street, Arlington, VA 22230.

Type of Meeting: Closed.

Contact Person: Dr. George Bright, Program Officer, Centers for Teaching and Learning, Teacher Enhancement Program, Education and Human Resources Secondary and Informal Education, National Science Foundation, 4201 Wilson Blvd., Arlington, VA 22230. Telephone: 703/ 306-1613.

Purpose of Meeting: To provide advice and recommendations concerning proposals for the Centers for Teaching and Learning, Teacher Enhancement Program, submitted to NSF for financial support.

Agenda: To review and evaluate proposals as part of the selection process for awards.

Reason for Closing: The proposals being reviewed include information of a proprietary or confidential nature, including technical information; financial data, such as salaries; and personal information concerning individuals associated with the proposals. These matters are exempt under 5 U.S.C. 552b(c)(4) and (6) of the Government in the Sunshine Act.

Dated: March 10, 2000.
Karen J. York,
Committee Management Officer.

[FR Doc. 00-6363 Filed 3-14-00; 8:45 am]

BILLING CODE 7555-01-M